DEPARTMENT OF COMMERCE

National Oceanic and Atmospheric Administration

[RTID 0648-XE939]

New England Fishery Management Council; Public Meeting

AGENCY: National Marine Fisheries Service (NMFS), National Oceanic and Atmospheric Administration (NOAA), Commerce.

ACTION: Notice of public meeting.

SUMMARY: The New England Fishery Management Council (Council) is scheduling a public meeting of its Joint Groundfish Advisory and Recreational Advisory Panels via webinar to consider actions affecting New England fisheries in the exclusive economic zone (EEZ). Recommendations from this group will be brought to the full Council for formal consideration and action, if appropriate.

DATES: This webinar will be held on Tuesday, June 10, 2025 at 9:30 a.m. Webinar registration URL information: https://nefmc-org.zoom.us/meeting/register/KPM7Y-JpQ1meUQBT5YCFOQ.

ADDRESSES:

Council address: New England Fishery Management Council, 50 Water Street, Mill 2, Newburyport, MA 01950.

FOR FURTHER INFORMATION CONTACT: Cate O'Keefe, Executive Director, New England Fishery Management Council; telephone: (978) 465-0492.

SUPPLEMENTARY INFORMATION:

Agenda

The Groundfish and Recreational Advisory Panels will meet to discuss Industry Updates with an open discussion to share perspectives on fishery performance the past year and considerations for the current fishing year; overview of Quota Change Model performance for fishing years (FY) 2020-2024 and discussion on drivers that influence accuracy of prediction. They will discuss Essential Fish Habitat Framework and review and provide feedback on draft updated essential fish habitat maps and text for Atlantic cod. The panels will also discuss Framework Adjustment 72/Specifications and Management Measures (to be initiated) and receive a report on action that may include status determination criteria, FY2026 specifications for Georges Bank (GB) cod and GB haddock, FY2026-FY2028 specifications for 12 stocks, FY2026-FY2027 U.S./Canada total allowable catches, and measures to address recreational management as part of Phase 1 of Atlantic cod management transition. They will discuss the Redfish Sector Exemption Program Review and receive an update on the development of the review. The panels will also discuss Amendment 23 Monitoring Review Metrics and receive an update on development of monitoring review metrics and indicators, including refining the list of possible metrics and indicators. They will also make recommendations to the Groundfish Committee, as appropriate; and discuss other business, as necessary.

Although non-emergency issues not contained on the agenda may come before this Council for discussion, those issues may not be the subject of formal action during this meeting. Council action will be restricted to those issues specifically listed in this notice and any issues arising after publication of this notice that require emergency action under section 305(c) of the Magnuson-Stevens Act, provided the public has been notified of the Council's intent to take final action to address the emergency. The public also should be aware that the meeting will be recorded. Consistent with 16 U.S.C. 1852, a copy of the recording is available upon request.

Special Accommodations

This meeting is physically accessible to people with disabilities. Requests for sign language interpretation or other auxiliary aids should be directed to Cate O'Keefe, Executive Director, at (978) 465-0492, at least 5 days prior to the meeting date.

Authority: 16 U.S.C. 1801 et seq.

Dated: May 22, 2025.
Rey Israel Marquez,
Acting Deputy Director, Office of Sustainable Fisheries, National Marine Fisheries Service.

[FR Doc. 2025-09568 Filed 5-27-25; 8:45 am]

BILLING CODE 3510-22-P